DEPARTMENT OF EDUCATION

Applications for New Awards; Educational Technology, Media, and Materials for Individuals With Disabilities Program—Educational Materials in Accessible Formats for Eligible Children and Students With Disabilities; Corrections

AGENCY: Office of Special Education and Rehabilitative Services, Department of Education.

ACTION: Notice; corrections.

SUMMARY: On February 9, 2022, the Department of Education (Department) published in the Federal Register a notice inviting applications (NIA) for new awards for fiscal year (FY) 2022 for Educational Materials in Accessible Formats for Eligible Children and Students With Disabilities, Assistance Listing Number (ALN) 84.327D. The Department is amending the NIA by increasing the estimated available funds and maximum award amount.

DATES: This correction is applicable April 6, 2022.

FOR FURTHER INFORMATION CONTACT: Carlene Reid, U.S. Department of Education, 400 Maryland Avenue SW, Room 5083A, Potomac Center Plaza, Washington, DC 20202-5076. Telephone: (202) 245-6139. Email: carlene.reid@ed.gov.

If you use a telecommunications device for the deaf (TDD) or a text telephone (TTY), call the Federal Relay Service (FRS), toll free, at 1-800-877-8339.

SUPPLEMENTARY INFORMATION: On February 9, 2022, we published the NIA in the Federal Register (87 FR 7433). Following the publication of the NIA, the Joint Explanatory Statement accompanying Division H of the Consolidated Appropriations Act, 2022 (Pub. L. 117-103) indicated an intent by Congress to provide no less than $9,000,000 from the amount appropriated for the Educational Technology, Media, and Materials Program for a new Educational Materials in Accessible Formats for Eligible Children and Students With Disabilities competition. Accordingly, we are amending the NIA to notify prospective applicants that we are increasing the estimated available funds and maximum award amount. Applicants that have already submitted applications under the FY 2022 Educational Materials in Accessible Formats for Eligible Children and Students With Disabilities competition may resubmit applications, but are not required to do so. If a new application is not submitted, the Department will use the application that was submitted by the deadline. If a new application is submitted, the Department will consider the most recent application submitted before the deadline of April 11, 2022.

Other than the estimated available funds and maximum award amount, all other requirements and conditions stated in the NIA remain the same.

Program Authority: 20 U.S.C. 1474 and 1481.

Corrections

In FR Doc. 2022-02688, appearing on pages 7433-7441 of the Federal Register of February 9, 2022 (87 FR 7433), we make the following corrections on page 7438, in the first column, in the section entitled “II. Award Information”:

(1) Following the heading “Estimated Available Funds:” remove “The Administration has requested $29,547,000 for the Educational Technology, Media, and Materials for Individuals with Disabilities program for FY 2022, of which we intend to use an estimated $8,500,000 for this competition. The actual level of funding, if any, depends on final congressional action. However, we are inviting applications to allow enough time to complete the grant process if Congress appropriates funds for this program.” and add, in its place, “$9,000,000.”

(2) Following the heading “Maximum Award:”, remove “$8,500,000” and add, in its place, “$9,000,000”.

Accessible Format: On request to the program contact persons listed under FOR FURTHER INFORMATION CONTACT, individuals with disabilities can obtain this document, the NIA, and a copy of the application package in an accessible format. The Department will provide the requestor with an accessible format that may include Rich Text Format (RTF) or text format (TXT), a thumb drive, an MP3 file, braille, large print, audiotape, or compact disc or other accessible format.

Electronic Access to This Document: The official version of this document is the document published in the Federal Register. You may access the official edition of the Federal Register and the Code of Federal Regulations at www.govinfo.gov. At this site you can view this document, as well as all other documents of this Department published in the Federal Register, in text or Portable Document Format (PDF). To use PDF you must have Adobe Acrobat Reader, which is available free at the site.

You may also access documents of the Department published in the Federal Register by using the article search feature at www.federalregister.gov. Specifically, through the advanced search feature at this site, you can limit your search to documents published by the Department.

Katherine Neas,
Deputy Assistant Secretary. Delegated the authority to perform the functions and duties of the Assistant Secretary for the Office of Special Education and Rehabilitative Services.

[FR Doc. 2022-07269 Filed 4-5-22; 8:45 am]

BILLING CODE 4000-01-P